DEPARTMENT OF HEALTH AND HUMAN SERVICES

Centers for Disease Control and Prevention

[60Day-14-14SR]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to LeRoy Richardson, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

“A Professional Development Needs Assessment to Improve Implementation of HIV/STD, Teen Pregnancy Prevention Services”—New—National Center for HIV/AIDS, Viral Hepatitis, STD, and TB Prevention (NCHHSTP), Centers for Disease Control and Prevention (CDC).

Background and Brief Description

In 2010, young people aged 13-24 accounted for 21% of all new HIV infections in the United States. Nearly half of the 19 million new sexually transmitted diseases (STD) reported each year are among young people aged 15-24. Young people who share certain demographic characteristics are disproportionately affected by HIV infection and other STD. Black and Latino young men who have sex with men (YMSM), homeless youth, and youth enrolled in alternative schools are particularly vulnerable.

The Nation's schools can play a critical role in addressing these epidemics. After the family, schools are one of the primary entities responsible for the development of young people.

To address these needs and disparities, the National Center for HIV/AIDS, Viral Hepatitis, STD, and TB Prevention, Division of Adolescent and School Health (DASH) through FOA PS-13-1308 is funding 19 state education agencies (SEA) and 17 local education agencies (LEA) to do HIV/STD teen pregnancy prevention in the education setting. Under the same cooperative agreement six Non-Governmental organizations (NGOs) are being funded to provide professional development, training and technical assistance to these 36 agencies in the major approach areas of Exemplary Sexual Health Education, Sexual Health Services and Safe and Supportive Environments. In addition, a contractor is being funded to provide assistance with the development and offering of professional development training and technical assistance.

This information collection is sponsored by CDC as part of the capacity building for grantees funded under the cooperative agreement. CDC has provided guidance and facilitation in the development of the survey tool that the contractor will use. This ensures efficiency and effectiveness and will minimize the need for multiple data collection activities by CDC and ETR as the contractor.

SEA and LEA will be providing professional development training and technical assistance to school districts and schools. Time is very limited to access school personnel and it is critical that this training and technical assistance be provided in the most effective and efficient manner. To meet these needs, DASH has funded a contractor, ETR Associates, through contract # 200-2013-F-57593 to develop a training plan designed to raise the capacity of all funded agencies in the area of professional development. The contract requires a needs assessment to gauge the skill level and needs of the funded agencies.

The contractor, ETR, will conduct an organizational needs assessment so that a plan can be developed to allow the contractor to tailor their training and technical assistance activities to the specific needs of the service providers (SEA/LEA).

Findings from this assessment will be used by ETR, funded NGOs, and CDC-DASH to plan for and implement professional development training and provide technical assistance in the most effective and efficient manner based on need and current theory. The CDC will be able to refine its approach to conceptualizing and providing professional development training and technical assistance to all grantees in the most cost-effective manner possible.

This activity is being done to obtain the information needed to develop appropriate tools such as job aids, resources, and training to increase the effectiveness of local and state education agencies that will be providing professional development around HIV prevention in schools and school districts. These resources will contribute to efficient and effective HIV prevention throughout the four remaining years of the cooperative agreement.

This needs assessment is being administered on-line to 36 organizations (local and state education agencies [LEA/SEA])in order to craft plans for the training and technical assistance needed for them as well as for the priority schools and school districts they work with as part of cooperative agreement. It is voluntary and no personally identifiable information will be collected. The total estimated burden for one administration of this needs assessment is 36 hours (36 respondents × 1 hour/response). It is expected that this needs assessment would be administered three times in a five year period to address changing and emerging needs for training and technical assistance.

There are no costs to respondents other than their time.

Estimated Annualized Burden Hours
Type of respondents | Form name | Number of respondents | Number of responses per respondent | Average burden per response (in hrs.) | Total burden (in hrs.)
LEA/SEA grantees | CDC DASH 1308 Training and Technical Assistance Needs Assessment | 36 | 1 | 1 | 36
Total |  |  |  |  |

LeRoy Richardson,
Chief, Information Collection Review Office, Office of Scientific Integrity, Office of the Associate Director for Science, Office of the Director, Centers for Disease Control and Prevention.

[FR Doc. 2014-08013 Filed 4-9-14; 8:45 am]

BILLING CODE 4163-18-P